NUCLEAR REGULATORY COMMISSION

10 CFR Parts 50 and 52

[NRC-2012-0031]

RIN 3150-AJ11

Onsite Emergency Response Capabilities

AGENCY: Nuclear Regulatory Commission.

ACTION: Advance notice of proposed rulemaking.

SUMMARY: The U.S. Nuclear Regulatory Commission (NRC or the Commission) is issuing this Advance Notice of Proposed Rulemaking (ANPR) to begin the process of potentially amending its regulations to strengthen and integrate onsite emergency response capabilities. The NRC seeks public comment on specific questions and issues with respect to possible revision to the NRC's requirements for onsite emergency response capabilities, and development of both new requirements and the supporting regulatory basis. This regulatory action is one of the actions stemming from the NRC's lessons-learned efforts associated with the March 2011 Fukushima Dai-ichi Nuclear Power Plant accident in Japan.

DATES: Submit comments by June 18, 2012. Comments received after this date will be considered if it is practical to do so, but the NRC is only able to ensure consideration of comments received on or before this date.

ADDRESSES: You may access information and comment submissions related to this document, which the NRC possesses and is publicly available, by searching on http://www.regulations.gov under Docket ID NRC-2012-0031. You may submit comments by any of the following methods:

• Federal Rulemaking Web Site: Go to http://www.regulations.gov and search for Docket ID NRC-2012-0031. Address questions about NRC dockets to Carol Gallagher; telephone: 301-492-3668; email: Carol.Gallagher@nrc.gov.

• Email comments to: Rulemaking.Comments@nrc.gov. If you do not receive an automatic email reply confirming receipt, contact us directly at 301-415-1677.

• Fax comments to: Secretary, U.S. Nuclear Regulatory Commission at 301-415-1101.

• Mail comments to: Secretary, U.S. Nuclear Regulatory Commission, Washington, DC 20555-0001, Attn: Rulemakings and Adjudications Staff.

• Hand deliver comments to: 11555 Rockville Pike, Rockville, Maryland 20852, between 7:30 a.m. and 4:15 p.m. (Eastern time) Federal workdays; telephone: 301-415-1677.

For additional direction on accessing information and submitting comments, see “Accessing Information and Submitting Comments” in the SUPPLEMENTARY INFORMATION section of this document.

FOR FURTHER INFORMATION CONTACT: Robert H. Beall, Office of Nuclear Reactor Regulation, U.S. Nuclear Regulatory Commission, Washington, DC 20555-0001; telephone: 301-415-3874; email: Robert.Beall@nrc.gov.

SUPPLEMENTARY INFORMATION:

I. Accessing Information and Submitting Comments

II. Background: Fukushima Dai-ichi and the NRC Regulatory Response

III. Background: Onsite Emergency Response Capabilities

A. Emergency Operating Procedures

B. Severe Accident Management Guidelines

C. Extensive Damage Mitigation Guidelines

D. Onsite Emergency Response Capabilities Versus Emergency Preparedness

IV. Discussion and Request for Public Comment

A. ANPR Purpose

B. Rulemaking Objectives/Success Criteria

C. Applicability to NRC Licenses and Approvals

D. Relationship Between Recommendation 8 and Other Near-Term Task Force Recommendations

E. Interim Regulatory Actions

V. Public Meeting

VI. Rulemaking Process and Schedule

VII. Related Petition for Rulemaking Actions

VIII. Available Supporting Documents

I. Accessing Information and Submitting Comments

A. Accessing Information

Please refer to Docket ID NRC-2012-0031 when contacting the NRC about the availability of information for this notice. You may access information related to this ANPR, which the NRC possesses and is publicly available, by the following methods:

• Federal Rulemaking Web Site: Go to http://www.regulations.gov and search for Docket ID NRC-2012-0031.

• NRC's Agencywide Documents Access and Management System (ADAMS): You may access publicly available documents online in the NRC Library at http://www.nrc.gov/reading-rm/adams.html. To begin the search, select “ADAMS Public Documents” and then select “Begin Web-based ADAMS Search.” For problems with ADAMS, please contact the NRC's Public Document Room (PDR) reference staff at 1-800-397-4209, 301-415-4737, or by email to PDR.Resource@nrc.gov. The ADAMS accession number for each document referenced in this notice (if that document is available in ADAMS) is provided the first time that a document is referenced. A table listing documents that provide additional background and supporting information is in Section VIII of this document.

• NRC's PDR: You may examine and purchase copies of public documents at the NRC's PDR, Room O1-F21, One White Flint North, 11555 Rockville Pike, Rockville, Maryland 20852.

B. Submitting Comments

Please include Docket ID NRC-2012-0031 in the subject line of your comment submission, in order to ensure that the NRC is able to make your comment submission available to the public in this docket.

The NRC cautions you not to include identifying or contact information in comment submissions that you do not want to be publicly disclosed. The NRC posts all comment submissions at http://www.regulations.gov as well as enters the comment submissions into ADAMS. The NRC does not edit comment submissions to remove identifying or contact information.

If you are requesting or aggregating comments from other persons for submission to the NRC, then you should inform those persons not to include identifying or contact information in their comment submissions that they do not want to be publicly disclosed. Your request should state that the NRC will not edit comment submissions to remove such information before making the comment submissions available to the public or entering the comment submissions into ADAMS.

II. Background: Fukushima Dai-ichi and the NRC Regulatory Response

On March 11, 2011, a magnitude 9.0 earthquake struck off the coast of the Japanese island of Honshu. The earthquake precipitated a large tsunami that is estimated to have exceeded 14 meters (45 feet) in height at the Fukushima Dai-ichi Nuclear Power Plant site (hereinafter referred to as the site or the facility). The earthquake and tsunami produced widespread devastation across northeastern Japan, resulting in approximately 25,000 people dead or missing, displacing tens of thousands of people, and significantly impacting the infrastructure and industry in the northeastern coastal areas of Japan. At the time of the earthquake, Fukushima Dai-ichi Units 1, 2, and 3 were in operation. Units 4, 5, and 6 had been shut down for routine refueling and maintenance activities, and the Unit 4 reactor fuel had been offloaded to the Unit 4 spent fuel pool.

As a result of the earthquake, the three operating units at the site automatically shut down, and offsite power was lost to the entire facility. The emergency diesel generators started at all six units, providing alternating current (AC) electrical power to critical systems; overall, the facility response to the seismic event appears to have been normal.

Approximately 40 minutes after shutdown of the operating units, the first large tsunami wave inundated the site, followed by multiple additional waves. The tsunami resulted in extensive damage to site facilities and a complete loss of AC electrical power at Units 1 through 5, a condition known as station blackout (SBO). One diesel generator remained functional on Unit 6.

Despite the actions of the operators following the earthquake and tsunami, cooling was lost to the fuel in the Unit 1 reactor after several hours, in the Unit 2 reactor after about 70 hours, and in the Unit 3 reactor after about 36 hours, resulting in damage to the nuclear fuel shortly after the loss of cooling.

In the days following the Fukushima Dai-ichi nuclear accident, the NRC Chairman directed the NRC staff to establish a senior-level agency task force to conduct a methodical and systematic review of the NRC's processes and regulations to determine whether, in light of the events in Japan, the agency should make additional improvements to its regulatory system, and to make recommendations to the Commission for its policy direction. This direction was provided in a tasking memorandum dated March 23, 2011, from the NRC Chairman to the NRC Executive Director for Operations (COMGBJ-11-0002) (ADAMS Accession No. ML110950110).

In SECY-11-0093, “Near-Term Report and Recommendations for Agency Actions Following the Events in Japan” (ADAMS Accession No. ML11186A959), dated July 12, 2011, the Near-Term Task Force (NTTF) provided its recommendations to the Commission. The staff requirements memorandum (SRM) for SECY-11-0093 (ADAMS Accession No. ML112310021), dated August 19, 2011, directed the NRC staff to identify and make “recommendations regarding any Task Force recommendations that can, and in the staff's judgment, should be implemented, in part or in whole, without unnecessary delay.”

In SECY-11-0124, “Recommended Actions To Be Taken Without Delay from the Near-Term Task Force Report” (ADAMS Accession No. ML11245A127), the NRC staff provided recommendations to the Commission on actions that, in the staff's judgment, should be initiated without unnecessary delay, and requested that the Commission provide direction for moving forward on these recommendation (subsequently referred to as “Tier 1” recommendations). The Commission approved the staff's proposed actions in the SRM for SECY-11-0124 (ADAMS Accession No. ML112911571), dated October 18, 2011. In SECY-11-0137, “Prioritization of Recommended Actions to Be Taken in Response to Fukushima Lessons Learned” (ADAMS Accession No. ML11269A204), the NRC staff requested that the Commission approve the staff's prioritization of the NTTF recommendations. In the SRM for SECY-11-0137 (ADAMS Accession No. ML113490055), dated December 15, 2011, the Commission approved the staff's proposed prioritization of the NTTF recommendations and supported action on the Tier 1 recommendations, subject to the direction in the SRM.

With respect to regulatory action regarding onsite emergency response capabilities, the Commission directed the NRC staff to initiate a rulemaking on NTTF Recommendation 8, in the form of an ANPR. This document responds to that Commission direction.

In November 2011, the Institute of Nuclear Power Operations (INPO) issued INPO-11-005, “Special Report on the Nuclear Accident at the Fukushima Dai-ichi Nuclear Power Station” (ADAMS Accession No. ML11347A454). In the SRM for SECY-11-0137, the Commission directed NRC staff to consider INPO-11-005 in its development of the technical bases for any proposed regulatory changes.

III. Background: Onsite Emergency Response Capabilities

A. Emergency Operating Procedures

Emergency Operating Procedures (EOPs) are required procedures designed to mitigate the effects of a design basis accident and place the plant in a safe shutdown condition. The EOPs are required by Title 10 of the Code of Federal Regulations (10 CFR) Part 50, Appendix B, Criterion V, “Instructions, Procedures, and Drawings,” and are included in the administrative control sections of licensee's technical specifications. Licensed operators are trained and evaluated in the implementation of EOPs through initial license training. The NRC evaluates licensed operator candidates' knowledge of EOPs during an initial written examination, as required by 10 CFR 55.41 and 55.43, and an initial operating test, as required by 10 CFR 55.45. For proficiency, licensed operator requalification training programs, required by 10 CFR 55.59, routinely train and evaluate licensed operators on their knowledge and ability to implement the EOPs.

B. Severe Accident Management Guidelines

During the 1990s, the nuclear industry developed Severe Accident Management Guidelines (SAMGs) as a voluntary industry initiative in response to Generic Letter 88-20, Supplement 2, “Accident Management Strategies for Consideration in the Individual Plant Examination Process,” dated April 4, 1990 (ADAMS Accession No. ML031200551). SAMGs provide guidance to operators and Technical Support Center (TSC) staff in the event of an accident that progresses beyond a plant's design basis (and therefore beyond the scope of the EOPs). The nuclear power industry owners' groups (i.e., industry organizations with representatives from the various nuclear plant owners that provide industry oversight for various plant designs) developed generic guidelines specific to the individual plant designs. Given the voluntary nature of the initiative for SAMGs, their implementation throughout the industry has been varied, as noted by NRC inspection results for Temporary Instruction 2515/184, “Availability and Readiness Inspection of Severe Accident Management Guidelines (SAMGs)” (ADAMS Accession No. ML11115A053). The guidelines themselves were implemented by individual licensees, but because the NRC has not developed a regulatory requirement for SAMGs, the training, evaluation, and procedure control requirements for SAMGs vary from plant to plant.

C. Extensive Damage Mitigation Guidelines

Following the terrorist events of September 11, 2001, the NRC ordered licensees to develop and implement specific guidance and strategies to maintain or restore core cooling, containment, and spent fuel pool cooling capabilities using existing or readily available resources that can be effectively implemented under the circumstances associated with loss of large areas of the plant due to explosions or fire. These requirements were subsequently imposed as license conditions for individual licensees and formalized in the Power Reactor Security Requirements final rule (74 FR 13926; March 27, 2009) in 10 CFR 50.54(hh)(2). As a result, Extensive Damage Mitigation Guidelines (EDMGs) were developed in order to provide guidance to operating crews and TSC personnel on the implementation of the strategies developed to address these large area events. The events at the Fukushima Dai-ichi Nuclear Power Station following the March 11, 2011, earthquake and tsunami highlighted the continued potential benefits of these strategies in mitigating the effects of prolonged SBOs and other events that challenge key safety functions. The NRC has not developed a specific regulatory requirement for training on EDMGs.

D. Onsite Emergency Response Capabilities Versus Emergency Preparedness

This ANPR focuses on the effectiveness of accident mitigating procedures and the training and exercises associated with these procedures. When using the term “accident mitigating procedures” in this document, the NRC is referring to EOPs, SAMGs, and EDMGs. The licensee's emergency preparedness plan and implementing procedures, which are required by 10 CFR 50.47 and 50.54(q) and Appendix E to 10 CFR part 50, are being evaluated through other NTTF recommendations, and the associated efforts are referred to in the questions in Section IV.D. However, the licensee's emergency preparedness plan and implementing procedures are not the subject of this ANPR.

IV. Discussion and Request for Public Comment

A. ANPR Purpose

In SECY-11-0124, the NRC staff recommended that the agency engage stakeholders during rulemaking activities “so that the regulatory action and licensee actions taken effectively resolve the identified issues and implementation challenges are identified in advance.” The NRC staff proposed interaction with stakeholders to support development of the regulatory basis, a proposed rule, and implementing guidance for strengthening and integrating the onsite emergency response capabilities. In the SRM for SECY-11-0124, the Commission directed the NRC staff to issue an ANPR prior to developing the regulatory basis for a proposed rule. Accordingly, the NRC's objective in this ANPR is to solicit external stakeholder feedback to inform the NRC staff's efforts to evaluate regulatory approaches for strengthening the current onsite emergency response capability requirements.

In the SRM for SECY-11-0124, the Commission also encouraged NRC staff to develop recommendations that continue to realize the strengths of a performance-based system as a guiding principle. The Commission indicated that, to be effective, approaches should be flexible and able to accommodate a diverse range of circumstances and conditions. The Commission stated that for “consideration of events beyond the design basis, a regulatory approach founded on performance-based requirements will foster development of the most effective and efficient, site-specific mitigation strategies, similar to how the agency approached the approval of licensee response strategies for the `loss of large area' event” addressed in 10 CFR 50.54(hh)(2).

Consistent with the Commission's direction in the SRM for SECY-11-0124, the NRC is open to flexible, performance-based strategies to address onsite emergency response capability requirements. This ANPR is structured around questions intended to solicit information that (1) supports development of such a framework and (2) supports assembling a complete and adequate regulatory basis that enables rulemaking to be successful. In this context, commenters should feel free to provide feedback on any aspects of onsite emergency response capability that would support this ANPR's regulatory objective, whether or not in response to a stated ANPR question.

B. Rulemaking Objectives/Success Criteria

The NRC is considering development of a proposed rule that would amend the current onsite emergency response capability requirements. Currently, the regulatory and industry approaches to onsite emergency response capability are fragmented into the separate strategies that were discussed in Section III of this document. By promulgation of an onsite emergency response capability rule, the NRC would be able to establish regulations that, when implemented by licensees, would strengthen and integrate the various onsite emergency response strategies. Specifically, the proposed requirements for onsite emergency response capability would strive to accomplish the following goals:

1. Ensure that effective transitions are developed between the various accident mitigating procedures (EOPs, SAMGs, and EDMGs) so that overall strategies are coherent and comprehensive.

2. Ensure that command and control strategies for large scale events are based on the best understanding of severe accident progression and effective mitigation strategies, and well defined in order to promote effective decision-making at all levels and develop organizational flexibility to respond to unforeseen events.

3. Ensure that the key personnel relied upon to implement these procedures and strategies are trained, qualified, and evaluated in their accident mitigation roles.

4. Ensure that accident mitigating procedures, training, and exercises are appropriately standardized throughout the industry and are adequately documented and maintained.

The NRC is seeking stakeholders' views on the following specific regulatory objectives:

1. What is the preferred regulatory approach to addressing NTTF Recommendation 8?

For example:

a. Should the NRC develop a new rule, or could the requirements that would provide for a more strengthened and integrated response capability be accomplished by a method other than a rulemaking? Provide a discussion that supports your position.

b. If a new rule is developed, what type of supporting document would be most effective for providing guidance on the new requirements? Provide a discussion that supports your position.

2. The NTTF recommendation for emergency response procedures stressed that the EOP guidelines should be revised to establish effective transitions between EOPs, SAMGs, and EDMGs in an effort to promote a more integrated approach to onsite emergency response. The NRC is interested in stakeholder opinions on the best course of action for revising and maintaining these procedures to accomplish this objective. For example:

a. Should the SAMGs be standardized throughout the industry? If so, describe how the procedures should be developed, and discuss what level of regulatory review would be appropriate. Should there be two sets of standard SAMGs, one applicable to pressurized water reactors (PWRs) and one applicable to boiling water reactors (BWRs), or should SAMGs be developed for the various plant designs in a manner similar to EOPs? Provide a discussion that supports your position.

b. What is the best approach to ensure that procedural guidance for beyond design basis events is based on sound science, coherent, and integrated? What is the most effective strategy for linking the EOPs with the SAMGs and EDMGs? Should the transition from EOPs to SAMGs be based on key safety functions, or should the SAMGs be developed in a manner that addresses a series of events that are beyond a plant's design basis? Provide a discussion that supports your position.

c. The NTTF Recommendation 8 strongly advised that the plant owners' groups should undertake revision of the accident mitigating procedures to avoid having each licensee develop its own approach. Is this the best course of action? What additional scenarios or accident plans should be considered for addition to SAMG technical guidelines as a result of the lessons learned in Japan? Provide a discussion that supports your position.

d. In the SRM for SECY-11-0137, the Commission directed the NRC staff to consider the November 2011 INPO report, INPO-11-005, in the development of the technical bases for Recommendation 8. How should this document be used by industry in developing SAMGs and the NRC in developing any proposed regulatory changes? Provide a discussion that supports your position.

e. Should there be a requirement for the SAMGs and EDMGs to be maintained as controlled procedures in accordance with licensee quality assurance programs? Provide a discussion that supports your position.

f. Should the SAMGs and EDMGs be added to the “Administrative Controls” section of licensee technical specifications? Provide a discussion that supports your position.

g. In a letter dated October 13, 2011 (ML11284A136), the Advisory Committee on Reactor Safeguards (ACRS) recommended that Recommendation 8 be expanded to include fire response procedures. In their letter, ACRS stated that some plant-specific fire response procedures can direct operators to perform actions that may be inconsistent with the EOPs, and that experience has shown that parallel execution of fire response procedures, abnormal operating procedures, and EOPs can be difficult and complex. Should efforts to integrate the EOPs, SAMGs, and EDMGs include fire response procedures? Are there other procedures that should be included in the scope of this work? Provide a discussion that supports your position.

h. What level of effort, in terms of time and financial commitment, will be required by the industry to upgrade the accident mitigating procedures? If possible, please include estimated milestones and PWR/BWR cost estimates.

3. The NTTF established the identification of clear command and control strategies as an essential aspect of Recommendation 8. What methodology would be best for ensuring that command and control for beyond design basis events is well defined? For example:

a. Should separate procedures be developed that clearly establish the command and control structures for large-scale events? Should defined roles and responsibilities be included in technical specifications along with associated training and qualification requirements? Provide a discussion that supports your position.

b. Should the command and control approach be standardized throughout the industry or left for individual licensees to define? Provide a discussion that supports your position.

c. What level of effort, in terms of time and financial commitment, will be required by the industry to develop these command and control strategies? If possible, please include estimated milestones and PWR/BWR cost estimates.

4. As the guidelines for accident mitigating procedures are revised and the command and control strategies are developed, personnel who will be implementing these procedures must be adequately trained, qualified, and evaluated. What would be the best approach for ensuring that the personnel relied upon to implement the revised procedures are proficient in the use of the procedures, maintain adequate knowledge of the systems referenced in these procedures, and can effectively make decisions, establish priorities, and direct actions in an emergency situation? For example:

a. Should a systems approach to training be developed to identify key tasks that would be performed by the various roles identified in the new strategies? Provide a discussion that supports your position.

b. Should the current emergency drill and exercise requirements be revised to ensure that the strategies developed as a result of this ANPR will be evaluated in greater depth? Provide a discussion that supports your position.

c. Should the revised accident mitigating procedures, specifically SAMGs and EDMGs, be added to the knowledge and abilities catalogs for initial reactor operator licenses? Provide a discussion that supports your position.

d. What level of plant expertise should be demonstrated by the personnel assigned to key positions outlined by the accident mitigation guidelines and command and control strategy? Should these personnel be required to be licensed or certified on the plant design? Provide a discussion that supports your position.

e. What training requirements should be developed to ensure emergency directors and other key decision-makers have the command and control skills needed to effectively implement an accident mitigation strategy? Provide a discussion that supports your position.

f. What should the qualification process entail for key personnel identified in the new strategies? How would this qualification process ensure proficiency? Provide a discussion that supports your position.

g. What level of effort, in terms of time and financial commitment, will be required by the industry to develop and implement these training, qualification, and evaluation requirements? If possible, please include estimated milestones and PWR/BWR cost estimates.

C. Applicability to NRC Licenses and Approvals

The NRC would apply the new onsite emergency response capability requirements to power reactors, both currently operating and new reactors, and would like stakeholder feedback.

Accordingly, the NRC envisions that the requirements would apply to the following:

• Nuclear power plants currently licensed under 10 CFR part 50;

• Nuclear power plants currently being constructed under construction permits issued under 10 CFR part 50, or whose construction permits may be reinstated;

• Future nuclear power plants whose construction permits and operating licenses are issued under 10 CFR part 50; and

• Current and future nuclear power plants licensed under 10 CFR part 52.

D. Relationship Between Recommendation 8 and Other Near-Term Task Force Recommendations

The NRC notes that there is a close relationship between the onsite emergency response capability requirements under consideration in this ANPR effort and several other near-term actions stemming from the NTTF report (and identified in SECY-11-0124 and SECY-11-0137). Regulatory actions taken in response to these other activities might impact efforts to amend onsite accident mitigating procedures and training. In this regard:

1. What is the best regulatory structure for integrating the onsite emergency response capability requirements with other post-Fukushima regulatory actions, such that there is a full, coherent integration of the requirements?

2. Recommendations 4.1 and 4.2 address SBO regulatory actions and mitigation strategies for beyond design basis external events, respectively. The implementation strategies developed in response to Recommendations 4.1 and 4.2 will require corresponding procedures. The NRC recognizes the need for coordinating efforts under Recommendations 4.1, 4.2, and 8. What is the best way to integrate these three regulatory efforts to ensure that they account for the others' requirements, yet do not unduly overlap or inadvertently introduce redundancy, inconsistency, or incoherency?

3. Recommendation 9.3 addresses staffing during a multiunit event with an SBO. Should staffing levels change as a result of a revised onsite emergency response capability or should these duties be assigned to existing staff?

4. Recommendation 10.2 addresses command and control structure and qualifications for the licensee's decision-makers for beyond design basis events. Should this recommendation be addressed concurrently with Recommendation 8?

E. Interim Regulatory Actions

The NRC recognizes that implementation of multiple post-Fukushima requirements could be a challenge for licensees and requests feedback on how best to implement multiple requirements, specifically onsite emergency response capability requirements, without adversely impacting licensees' effectiveness and efficiency. It will take several years to issue a final rule. Should the NRC use other regulatory vehicles (such as commitment letters or confirmatory action letters) to put in place interim coping strategies for onsite emergency response capabilities while rulemaking proceeds?

V. Public Meeting

The NRC plans to hold a category 3 public meeting with stakeholders during the ANPR public comment period. The public meeting is intended as a forum to discuss the ANPR with external stakeholders and provide information on the feedback requested in the ANPR to support development of onsite emergency response capability requirements.

The meeting is not intended to solicit comment. Instead, the NRC will encourage stakeholders at the meeting to provide feedback in written form during the ANPR comment period. To support full participation of stakeholders, the NRC staff plans to provide teleconferencing and Webinar access for the public meeting. Since the intent of the meeting is not to solicit or accept comments, the meeting will not be transcribed. The NRC will issue the public meeting notice 10 calendar days before the public meeting.

Stakeholders should monitor the NRC's public meeting Web site for information about the public meeting: http://www.nrc.gov/public involve/public-meetings/index.cfm.

VI. Rulemaking Process and Schedule

Stakeholders should recognize that the NRC is not obligated to provide detailed comment responses to feedback provided in response to this ANPR. If the NRC develops a regulatory basis sufficient to support a proposed rule, there will be an opportunity for additional public comment when the regulatory basis and the proposed rule are published. If supporting guidance is developed for the proposed rule, stakeholders will have an opportunity to provide feedback on the implementing guidance.

VII. Related Petition for Rulemaking Action

The NTTF report provided a specific proposal for onsite emergency actions that was subsequently endorsed by the National Resources Defense Council (NRDC) in a petition for rulemaking (PRM), PRM-50-102 (76 FR 58165; September 20, 2011), as a way to address licensee training and exercises. In connection with NTTF Recommendation 8.4, “Onsite emergency actions,” the NRDC requested in its petition that the NRC “institute a rulemaking proceeding applicable to nuclear facilities licensed under 10 CFR 50, 52, and other applicable regulations to require more realistic, hands-on training and exercises on Severe Accident Mitigation [sic] Guidelines (SAMGs) and Extreme Damage Mitigation Guidelines (EDMGs) for licensee staff expected to implement the strategies and those licensee staff expected to make decisions during emergencies, including emergency coordinators and emergency directors.” The Commission has established a process for addressing a number of the recommendations in the NTTF Report, and the NRC determined that the issues raised in PRM-50-102 are appropriate for consideration and will be considered in this Recommendation 8 rulemaking. Persons interested in the NRC's actions on PRM-50-102 may follow the NRC's activities at www.regulations.gov by searching on Docket ID NRC-2012-0031.

VIII. Available Supporting Documents

The following documents provide additional background and supporting information regarding this activity and corresponding technical basis. The documents can be found in ADAMS. Instructions for accessing ADAMS are in the ADDRESSES section of this document.

Date | Document | ADAMS Accession Number/Federal Register Citation
April 4, 1990 | Generic Letter 88-20, Supplement 2, “Accident Management Strategies for Consideration in the Individual Plant Examination Process” | ML031200551
August 28, 2007 | Appendix A to 10 CFR part 50—General Design Criteria for Nuclear Power Plants | 72 FR 49505
August 28, 2007 | Final Rule: Licenses, Certifications, and Approvals for Nuclear Power Plants | 72 FR 49352
March 27, 2009 | Final Rule: Power Reactor Security Requirements | 74 FR 13926
March 23, 2011 | Memorandum from Chairman Jaczko on Tasking Memorandum-COMGBJ-11-0002—NRC Actions Following the Events in Japan | ML110950110
April 29, 2011 | Temporary Instruction 2515/184, Availability and Readiness Inspection of Severe Accident Management Guidelines (SAMGs) | ML11115A053
May 26, 2011 | Completion of Temporary Instruction 2515/184, Availability and Readiness Inspection of Severe Accident Mitigation Guidelines (SAMGs), at Region IV Reactor Facilities | ML111470264
May 27, 2011 | Region I Completion of Temporary Instruction (TI)-184, Availability and Readiness Inspection of Severe Accident Mitigation Guidelines (SAMGs) | ML111470361
June 1, 2011 | Completion of Temporary Instruction (TI) 2515/184, Availability and Readiness Inspection of Severe Accident Management Guidelines (SAMGs) at Region III Sites—Revision | ML111520396
June 2, 2011 | Completion of Temporary Instruction (TI) 184, Availability and Readiness Inspection of Severe Accident Mitigation Guidelines (SAMGS) at Region II Facilities—Revision | ML111530328
July 12, 2011 | SECY-11-0093—“The Near-Term Task Force Review of Insights from the Fukushima Dai-ichi Accident” | ML11186A959 ML111861807 (Enclosure)
August 19, 2011 | SRM-SECY-11-0093—Near-Term Report and Recommendations for Agency Actions Following the Events in Japan | ML112310021
September 9, 2011 | SECY-11-0124, “Recommended Actions to be Taken Without Delay from the Near-Term Task Force Report.” | ML11245A127 ML11245A144 (Enclosure)
October 3, 2011 | SECY-11-0137, “Prioritization of Recommended Actions to be Taken in Response to Fukushima Lessons Learned.” | ML11269A204 ML11272A203 (Enclosure)
October 18, 2011 | Staff Requirements Memorandum—SECY-11-0124—Recommended Actions to be Taken Without Delay From The Near-Term Task Force Report | ML112911571
July 26, 2011 | NRDC's Petition for Rulemaking to Require More Realistic Training on Severe Accident Mitigation Guidelines (PRM 50-102) | ML11216A242
September 14, 2011 | Letter to Geoffrey H. Fettus, Natural Resources Defense Council, Inc. from Annette Vietti-Cook, In Regards to the NRC Will Not Be Instituting a Public Comment Period for PRM-50-97, PRM-50-98, PRM-50-99, PRM-50-100, PRM-50-101, and PRM-50-102 | ML112700269
October 13, 2011 | Initial ACRS Review of: (1) The NRC Near-Term Task Force Report on Fukushima and (2) Staff's Recommended Actions to be Taken Without Delay | ML11284A136
November 30, 2011 | INPO-11-005, Special Report on the Nuclear Accident at the Fukushima Dai-ichi Nuclear Power Station | ML11347A454
December 15, 2011 | Staff Requirements Memorandum—SECY-11-0137—Prioritization of Recommended Actions to be Taken in Response to the Fukushima Lessons-Learned | ML113490055
March 14, 2012 | Summary of the Public Meeting to Discuss Implementation of Near-Term Task Force Recommendation 8, Strengthening and Integration of Onsite Emergency Response Capabilities Such As EOPS, SAMGS, and EDMGS, Related to the Fukushima Dai-ichi Power Plant Accident | ML12073A283

Dated at Rockville, Maryland, this 4th day of April 2012.
For the Nuclear Regulatory Commission.
Michael F. Weber,
Acting Executive Director for Operations.

[FR Doc. 2012-9336 Filed 4-17-12; 8:45 am]

BILLING CODE 7590-01-P